OFFICE OF SPECIAL COUNSEL

Proposed Information Collection Activities; Request for Comment

AGENCY: Office of Special Counsel.

ACTION: Notice.

SUMMARY: The U.S. Office of Special Counsel (OSC), in accordance with the Paperwork Reduction Act (PRA) of 1995 (44 U.S.C. chapter 35) and implementing regulations at 5 CFR Part 1320, plans to request approval from the Office of Management and Budget (OMB) for use of two previously approved information collections: (1) Form OSC-11, Complaint of Possible Prohibited Personnel Practice or Other Prohibited Activity; and (2) Form OSC-12, Disclosure of Information. Both forms to be submitted include minor technical edits previously approved by OMB; form OSC-11 (complaint form) also includes revisions to three consent statements in the form. These collections of information are described in OSC regulations at 5 CFR 1800.1 and 1800.2. The current OMB approval for these collections of information expires on August 31, 2003.

Current and former Federal employees, employee representatives, other Federal agencies, and the general public are invited to comment on these information collections. Comments are invited on: (a) whether the proposed collections of information are necessary for the proper performance of OSC's functions, including whether the information will have practical utility; (b) the accuracy of OSC's estimate of the burden of the proposed collections of information; (c) ways to enhance the quality, utility, and clarity of the information to be collected; and (d) ways to minimize the burden of the collection of information on respondents, including through the use of automated collection techniques or other forms of information technology.

DATES: Comments should be received on or before May 9, 2003.

ADDRESSES: Kathryn Stackhouse, Legal Counsel and Policy Division, U.S. Office of Special Counsel, 1730 M Street, NW, Suite 300, Washington, DC 20036-4505.

FOR FURTHER INFORMATION CONTACT: Kathryn Stackhouse, Legal Counsel and Policy Division, at the address shown above; by telephone at (202) 653-8971; or by facsimile at (202) 653-5151. The collections of information to be submitted to OMB will be available for review on OSC's Web site (at http://www.osc.gov) as of the date of this notice.

SUPPLEMENTARY INFORMATION: Comment is requested on the following two collections of information:

1.Title of Collection: Complaint of Possible Prohibited Personnel or Other Prohibited Activity (Agency Form Number: OSC-11; OMB Control Number 3255-0002)

Type of Information Collection: Approval of a previously approved collection of information that expires on August 31, 2003. The proposed information collection format includes changes as follows: (1) minor technical edits previously approved by OMB since the last formal clearance under the PRA; and (2) minor revisions to three consent statements in part 3 of form OSC-11 (complaint form), to make the scope and/or meaning of the statements clearer.

Affected public: Current and former Federal employees, applicants for Federal employment, and their representatives.

Respondent's Obligation: Voluntary.

Estimated Annual Number of Respondents: 1771.

Frequency: On occasion.

Estimated Average Burden Per Respondent: 1.25 hours.

Estimated Annual Burden: 2214 hours.

Abstract: The complaint form is required for use by current and former Federal employees and applicants for Federal employment, under 5 CFR 1800.1, to submit allegations of possible prohibited personnel practices or other prohibited activity for investigation and possible prosecution by OSC, except for allegations involving the Hatch Act, which may be submitted by providing the information described at 5 CFR 1800.1. Currently the complaint form is available by contacting OSC at 800-872-9855, or from OSC's Web site at http://www.osc.gov. The form may be printed from the web site, filled out, signed, and then mailed or faxed to OSC's Complaints Examining Unit. By October 21, 2003, OSC plans to provide the capability to electronically file a complaint form, pursuant to the Government Paperwork Elimination Act (GPEA), Pub. L. 105-277.

2. Title of Collection: Disclosure of Information (Agency Form Number: OSC-12; OMB Control Number 3255-0002).

Type of Information Collection: Approval of a previously approved collection of information that expires on August 31, 2003. The proposed information collection format includes minor modifications to the existing forms made since the last formal clearance under the PRA.

Affected public: Current and former Federal employees, applicants for Federal employment, and their representatives.

Respondent's Obligation: Voluntary.

Estimated Annual Number of Respondents: 475.

Frequency: On occasion.

Estimated Average Burden Per Respondent: 1 hour.

Estimated Annual Burden: 475 hours.

Abstract: This optional whistleblower disclosure form, and the format provided in 5 CFR 1800.2, are for use by current and former Federal employees and applicants for Federal employment to disclose (for OSC review and possible referral to the agency involved) a violation of any law, rule, or regulation, gross mismanagement, a gross waste of funds, an abuse of authority, or a substantial and specific danger to public health or safety. Currently, this form is available by contacting OSC at 800-572-2249, or from OSC's Web site at http://www.osc.gov. The form may be printed from the web site, filled out, signed, and then mailed or faxed to OSC's Disclosure Unit. By October 21, 2003, OSC plans to provide the capability to electronically file a disclosure form, pursuant to the Government Paperwork Elimination Act (GPEA), Pub. L. 105-277.

Dated: March 4, 2003.
Timothy Hannapel,
Deputy Special Counsel.

[FR Doc. 03-5586 Filed 3-7-03; 8:45 am]

BILLING CODE 7405-01-S